DEPARTMENT OF ENERGY

Federal Energy Regulatory Commission

[Docket No. EL14-72-000]

UNS Electric, Inc.; Notice of Institution of Section 206 Proceeding and Refund Effective Date

On July 17, 2014, the Commission issued an order in Docket No. EL14-72-000, pursuant to section 206 of the Federal Power Act (FPA), 16 U.S.C. 824e (2012), instituting an investigation into the justness and reasonableness of UNS Electric, Inc.'s (UNS Electric) lack of formula rate protocols under UNS Electric's Open Access Transmission Tariff. UNS Electric, Inc., 148 FERC ¶ 61,032 (2014).

The refund effective date in Docket No. EL14-72-000, established pursuant to section 206(b) of the FPA, will be the date of publication of this notice in the Federal Register.

Dated: July 17, 2014.
Nathaniel J. Davis, Sr.,
Deputy Secretary.

[FR Doc. 2014-17300 Filed 7-22-14; 8:45 am]

BILLING CODE 6717-01-P